DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 A.M. and 5 P.M. in Suite 4100W, U.S. Department of Commerce, Franklin Court Building, 1099 14th Street, NW., Washington, DC.

Docket Number: 03-055. Applicant: Stanford University, Department of Neurobiology, 299 Campus Drive West D243, Stanford, CA 94305. Instrument: Electron Microscope, Model Tecnai G² Polara. Manufacturer: FEI Company, The Netherlands. Intended Use: The instrument is intended to be used for biomedical experiments including the following:

(1) Research on the nervous system to expose the structure of the neuromuscular junction and other synapses at nanometer scale.

(2) Applying current methodology to the structure determination of giant, multiprotein transcription complexes at nanometer resolution, and developing a new approach for extension of single particle analysis to near atomic resolution.

(3) Cell biological and molecular bases of dendrite growth and synapse formation in the vertebrate central nervous system. Application accepted by Commissioner of Customs: December 17, 2003.

Gerald A. Zerdy,
Program Manager, Statutory Import Programs Staff.

[FR Doc. 04-1834 Filed 1-27-04; 8:45 am]

BILLING CODE 3510-DS-P